DEPARTMENT OF TRANSPORTATION

Federal Motor Carrier Safety Administration

[Docket No. FMCSA-2001-9800]

Qualification of Drivers; Exemption Applications; Diabetes

AGENCY: Federal Motor Carrier Safety Administration (FMCSA), DOT.

ACTION: Notice; reopening of comment period.

SUMMARY: The FMCSA is reopening the comment period on its notice proposing to issue exemptions to certain insulin-using diabetic drivers of commercial motor vehicles (CMVs), from the diabetes mellitus prohibitions contained in the Federal Motor Carrier Safety Regulations (FMCSRs). This action allows the public to view relevant information added to the docket after the earlier October 1, 2001, deadline for comments.

DATES: Comments must be received on or before February 4, 2002.

ADDRESSES: You can mail or deliver comments to the U.S. Department of Transportation, Dockets Management Facility, Room PL-401, 400 Seventh Street, SW., Washington, DC 20590-0001. You can also submit comments as well as see the submissions of other commenters at http://dms.dot.gov. Please include the docket number that appears in the heading of this document. You can examine and copy this document and all comments received at the same Internet address or at the Dockets Management Facility from 9 a.m. to 5 p.m., e.t., Monday through Friday, except Federal holidays. If you want to know that we received your comments, please include a self-addressed, stamped postcard or include a copy of the acknowledgement page that appears after you submit comments electronically.

FOR FURTHER INFORMATION CONTACT: For further information about the proposed diabetes exemption program in this notice, Ms. Sandra Zywokarte, Office of Bus and Truck Standards and Operations, (202) 366-2987; for information about legal issues related to this notice, Mr. Joseph Solomey, Office of the Chief Counsel, (202) 366-1374, FMCSA, Department of Transportation, 400 Seventh Street, SW., Washington, DC 20590. Office hours are from 7:45 a.m. to 4:15 p.m., e.t., Monday through Friday, except Federal holidays.

SUPPLEMENTARY INFORMATION:

Background

On July 31, 2001, FMCSA published a notice requesting comments on its proposal to issue exemptions to certain insulin-treated diabetic drivers of commercial vehicles from the diabetes requirement at 49 CFR 391.41(b)(3) (66 FR 39548). The comment period closed on October 1, 2001. That notice referenced analytical results of crash risks for CMV operators with insulin-treated diabetes mellitus from an agency sponsored study (“A Preliminary Study of the Risk Associated with the Operation of Commercial Motor Vehicles by Drivers with Insulin-Treated Diabetes Mellitus,” 1999). Although the final results of this study were available and presented at the time of the July 31st notice, the report presenting the study methodology and findings had not been finalized and approved by FMCSA, and was not available to the public.

Therefore, we are placing a copy of this final report entitled, “A Study of the Risk Associated with the Operation of Commercial Motor Vehicles by Drivers with Insulin-Treated Diabetes Mellitus,” 2001, in the docket and reopening the comment period.

Issued on: December 21, 2001.
Joseph M. Clapp,
Administrator.

[FR Doc. 02-57 Filed 1-2-02; 8:45 am]

BILLING CODE 4910-EX-P